DEPARTMENT OF TRANSPORTATION

Federal Aviation Administration

Notice of Availability, Notice of Public Comment Period, Notice of Public Meetings, and Request for Comment on the Revised Draft Tiered Environmental Assessment for SpaceX Starship/Super Heavy Vehicle Increased Cadence at the Boca Chica Launch Site in Cameron County, Texas

AGENCY: Federal Aviation Administration (FAA), Department of Transportation (DOT).

ACTION: Notice of availability, notice of public comment period, notice of public meetings, and request for comment.

SUMMARY: In accordance with the National Environmental Policy Act of 1969, as amended (NEPA), Council on Environmental Quality NEPA-implementing regulations, and FAA Order 1050.1F, Environmental Impacts: Policies and Procedures, the FAA is announcing the availability of the Revised Draft Tiered Environmental Assessment for SpaceX's proposal to increase the number of launches and landings of its Starship/Super Heavy vehicle at the Boca Chica Launch Site in Cameron County, Texas (Revised Draft EA), and its intent to hold public meetings. The Revised Draft EA analyzes SpaceX's proposal to increase launch and landing cadence up to 25 annual Starship/Super Heavy orbital launches, including: up to 25 annual landings of Starship (Second stage), and up to 25 annual landings of Super Heavy (First stage). The Revised Draft EA also addresses vehicle upgrades.

DATES: No registration is required for the four in-person public meetings that will be held at the following dates and times (Central):

• Tuesday, January 7, 2025; 1 p.m.-3 p.m. & 5:30 p.m.-7:30 p.m. CT.

• Thursday, January 9, 2025; 1 p.m.-3 p.m. & 5:30 p.m.-7:30 p.m. CT.

Registration is required for the virtual public meeting that will be held on Monday, January 13, 2025; 5:30 p.m.-7:30 p.m. CT.

The public comment period for the Revised Draft EA will close on January 17, 2025.

ADDRESSES: The locations for the meetings are as follows:

• January 7, 2025; Texas Southmost College, Jacob Brown Auditorium, 600 International Boulevard, Brownsville, TX 78520.

• January 9, 2025; Port Isabel Event & Cultural Center, Queen Isabella Room, 309 E Railroad Avenue, Port Isabel, TX 78578.

• January 13, 2025; Registration Link: https://us02web.zoom.us/webinar/register/WN_6f5su5mtTne_vBr8MqJOLA, Dial-in phone number: 888-788-0099 (Toll Free), Webinar ID: 879 9253 6128, Passcode: 900729.

The Revised Draft EA is available for review at https://www.faa.gov/space/stakeholder_engagement/spacex_starship. The FAA invites interested parties to submit comments on the Revised Draft EA. Public comments can be submitted electronically to www.regulations.gov under Docket No. FAA-2024-2006, by postal mail to Ms. Amy Hanson, FAA Environmental Specialist, SpaceX EA, c/o ICF 1902 Reston Metro Plaza Reston, VA 20190, or delivered in written or verbal form during a public meeting. Instructions on how to submit comments can be found on the FAA web page at the address listed above.

FOR FURTHER INFORMATION CONTACT: Amy Hanson at 847-243-7609 or SpaceXBocaChica@icf.com.

SUPPLEMENTARY INFORMATION: The FAA will provide a pre-recorded presentation during the first half hour of the public meetings. The public will also have an opportunity to submit comments during the meetings. English-Spanish translation services will be provided. Both English and Spanish versions of the presentation will be made available to the public on December 16, 2024, on this website listed above. More information on the public meetings can be found at: https://www.faa.gov/space/stakeholder_engagement/spacex_starship. If any accommodation for the public meetings is needed (such as additional translation services), please submit a request by December 16, 2024, to the project email address: SpaceXBocaChica@icf.com. For any media inquiries, please contact the FAA Press Office at pressoffice@faa.gov.

Before including your address, phone number, email address, or other personal identifying information in your comment, be advised that your entire comment—including your personal identifying information—may be made publicly available at any time. While you can ask the FAA in your comment to withhold from public review your personal identifying information, the FAA cannot guarantee that it will be able to do so. All comments received during the comment period will be given equal weight and be taken into consideration in the preparation of the Final EA.

Issued in Washington, DC, on November 20, 2024.
Stacey Molinich Zee,
Manager, Operations Support Branch.

[FR Doc. 2024-27533 Filed 11-26-24; 8:45 am]

BILLING CODE 4910-13-P